DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing their United States citizenship (within the meaning of section 877(a) or 877A) with respect to whom the Secretary received information during the quarter ending December 31, 2010.

Last name | First name | Middle name/initials
ABE | ATSUSHI |
ABEHSERA | ALBERT |
ABEHSERA | AUDREY |
ABEHSERA | JACQUES |
ABEHSERA | MONIQUE |
ABEHSERA | MURIEL |
ADDY | GILLIAN |
ADDY | PETER | D.
ADVANI | SUNAINA |
AFFONSO | ANA | C
AFFONSO | LUIZ | GUILHERME
AGATI | JEAN-PHILLIPPE |
AHMED | JAVED |
AKOI | RAIDEV | SINGH
ALBRIGHT | PHILIP | RUSSELL
AL-DOAISS | SAMOH | ANISS
ALFONSO | JOSEPH | NICOLA
ALLEN | ANTHONY | SIMON
AL-SABAH | HAMAD | MUBARAK
AL-SABAH | NOOR | MUBARAK
AL-TURKI | ALI | ABDULAZIZ
ANDERSON | GWENDOLYN | I.
ANG | DAVID | JIA-QIANG
ANG | JUSTIN | ZHE MIN
ANGKASA | STANLEY |
ARBER | JOHN | WILLIAM
ARJANTO | ANGELIIQUE |
ARYANTO | FERDINAND |
ARYANTO | LAURA |
ASHDOWN-HOWARD | CAROILINE | SARAH
ASLUND | ANNA |
ASLUND | ROBERT |
AVAKIAN | EDDIE | HAIG
AVILES | EVA | JENNY
BAILEY | JANE |
BAILEY | PETER | JOHN
BAKHTIAR | SOHAILA | HELENE
BALCH | GARY | LEN
BAROCCHI | NICOLAS | CARLO
BEANLAND | DAVID | J
BEILLARD | EMMANUEL |
BEILLARD | NATHALIE |
BELL | DEAN | R
BELL | GARRY | E
BELL | MARLENE |
BERG | LAURIE | ADA
BEYELER | MIRJAM |
BIRTLES | NICHOLAS |
BLAKEMAN | IAN |
BLAKEMAN | MARIA |
BONDE | PEDER |
BOOGAARD | ROBERT |
BOURGUIGNON | JACQUES | A. M.
BRANHAM | MICHAEL | DEE
BREGULLA | STEVEN | LOTHAR
BROCHEN | ALEXANDRA | COLETTE MARIE
BROWNE-SWINBURNE | ELIZA | JANE
BRYNE | SILJE | BJARKAAS
BUCHEN-OSMOND | CORNELIA |
BURCKHARDT | DANIEL | DIETER
CEFALI | FRANK | ANTHONY
CHA | EUNJIN |
CHAN | SONYA | CHUI SHAN
CHANDRAN | VIVIAN | PEARL JOHNSTON
CHANRAI | KAILASH | HARKISHIN
CHAU | KATRINA | LING T.
CHEN | SHERYL | FRANCES
CHENG | GARY |
CHIANG | CHUN-I |
CHIEN | CHIH | SHANG
CHOISNEL | ELENA |
CHOISNEL | GERARD |
CHONG | YANG | SUN
CHOU | ERIC | CHENG WEI
CHOW | THERESA | LYNN
CHUN | RICHARD | KILWHAN
CLARK | JEMMA |
COHEN | ERICA |
COLLOFF | GILLIAN | MARY
COLLOFF | IAN | GREGORY
CONNOR | PHILLIPS | M
CONNORS | KEVIN | PATRICK
COYLE | BRENDAN | H
D'ALVIELLA | EUGENIE | AIMEE GOBLET
DARWIN | ANGELA | MARY BRUCE
DAVID | CARY | RICHARD
DAVID-PELLERIN | STEPHANIE |
DE CANDIA | FABRIZIO |
DE MELO | JAIME | A P
DELETAILLE | SEBASTIEN | JAMES SPENCER
DELLOYE | BRUCE | CHRISTIAN
DEROLD | CHRISTIAN |
DESCHLER | VANESSA | LAURA
DEUTSCH | IRA | S
DONEGAN | ALEXANDRA | ELEANOR
DONEGAN | PATRICK | LOUIS
DONOHUE | MAURA | JOAN
DURAN | CLARA | MARIE BROCHEN
EIKENS | BERNHARD |
EIKENS | SABINE |
EISENBIEGLER | PRATIWI | ADININGRUM
ELSEN | MARIA | ANTOINETTE
FACON | DOMINIQUE | B.
FAIRMAN | GARY | L
FARRAR | CHIHO |
FERDON | NONA | MARIE
FIRMENICH | FREDERIC | ALEXANDRE
FITZJOHN | DAVID | ROY
FITZJOHN | JACQUELINE |
FLUCKIGER | PETER | HENRI
FORD | JUDITH | MARIANNE
FOX | EVA | HELENA OSCARIUS
FRAZER | GRANT | S
FRAZER | LINDA | C
FRENKEL | SHARON |
FREY | ELIZABETH | U
FUNG | PASCALE | N
GIBSON | MATTHEW | CHARLES
GIBSON | SARAH | CLAIRE
GIDRON | GILLA | MEZZAN
GINDIN | DMITRY |
GLOVER | SIMON | WILLIAM
GNAEDIG | GREGOR |
GOH | JUSTIN | TENG HUI
GOTE-VAN ZANTEN | MAUD | A
GOTTLER | CHRISTINE |
GREGG | MYRIAM | PAMELA
GRIFFITHS | ROBERT | WILLIAM
GROHS | MARY | LOUISE
GUERLAIN | MARIE |
HA | PATRICIA |
HABOLDT | BOB | P
HAJEK | LINDA | ANETTE
HANSEN | PAUL | ROBERT
HARDWICK III | CHARLES | CHEEVER
HARRIS | JANE | VELDA
HARSONO | SUDARGO |
HARTLEY-ALLEN | JANE | ANTONIA
HAUSKA | STEPHAN | MARC
HEDDLE | MARGARET | A
HEE | ZHENG | XUN
HERWIG | THOMAS | ALBERT
HERZOG | KATHERINE | B
HEWITT | KEVIN | MAXWELL SCOTT
HIDLEY | DAWNETTE |
HIDLEY | THOMAS | LEROY
HILDEBRAND | BARBARA | M
HILTZ | ANGELA | L
HIRSCH | GEORGINA | ELIZABETH RUTH
HO | JONATHAN | CHUN WAI
HO | NATHANIEL | WEI-XIAN
HO | ROSEMARY | WEI-LIN
HO | SAMMY | KIN WAN
HOLMES | PAULA | GUNNARD
HOOI | BRYAN | KUEN-YEW
HORVATH | ALEXANDER | S
HOWELL JR | WARREN | RAYMOND
HUANG | DAVID |
HUANG | JEFFREY |
HUM | DANIEL | SHI-AN
HYLTON | NOEL |
HYONG | JAMES | WOO
ILLING | ALEXANDER | GEORGE ERNEST
INGRAHAM | CYNTHIA |
JACKSON | GRACE | LINNET
JENSEN | DANIEL | MICHAEL
JENSEN | JANICE | MARILYN
JIAO | JIAN | PING
JINN | M SHYUE | GANG
JOARISTI | PEDRO | CELESTINO
JONSSON | FREDRIK | K
JUN | LIESBETH | M
JUNN | HAAN | SUK
KARDOUCHE | RAMSEY | KHALIL
KARIBIAN | GEORGE | VAHAK
KARIM | HAKIM |
KELLER | GORDON |
KENNEDY | MARION |
KIM | AARON | KYONGHAN
KIM | GRACE | HAEJOO
KIM | PETER | HYOYU
KIM | SEOK | BONG
KINGSBURY | PTER | THOMAS
KINGSLEY | JENNIFER |
KLAINGUTI | MICHAEL | ROBERT
KLAUS HOSSEINI | MARGRIT |
KNAUF | KARL | KONSTANTIN
KNOEPFEL | SYLVIA | E
KO | LEE-CHING |
KOH | JARED | SHANG YING
KOHLI | VIJAY | KUMAR
KOMORI | LEONARD |
KOMORI | MASUMI |
KOPP | KAREN |
KRUISHEER | MARGARET | JACOBA
KRZYZAK | JANINA |
KUBO | DAISUKE |
LABBE | BEATRICE | ANDERSON
LAMPRECHT | JOHANNES |
LASKY | ISABEL |
LAU | CHUN | SHUN
LAU | KENDRICK | PU HONG
LAUDER | SANDRA | E
LAWRENCE | KENNETH | MARK
LAYOUS | SALIM | S
LAZAAR | BASHAR | KAMEL
LEDSOME | MARK |
LEE | CHEI | REN
LEE | KEYOON | JENIFFER
LEE | PAUL |
LEE | SANDRA | CHAN-KEN
LEE | TIEN | SHENG
LEE | WAN | KYUN
LEE | WON | YOUNG
LEE | YONG | IN
LEVENS | NIGEL | R
LEVIE | CLAIRE |
LEVY | GRANT | D
LI | XIAO | YANG
LIM | EMILY | YINGHUI
LIM | JOSHUA | ZHI QIANG
LIM | MEI | SHI
LIM | SOON | HEE
LIN | ALEXANDER | LANSON
LOPEZ | MANUEL | IGNACIO
LOW | ELBERT | YI-CHUEN
LUI | ANNE | W
LUNG | JUSTIN | CHI YUEN
LUNTZ | DAVID | JOHN
MA | XIAOHONG |
MAINI | GERALDINE | RAINIER WALDEN
MAIRA | ARUN | NATH
MARCACCINI | GAIA | LAETITIA
MARCHANDISE | DONALD |
MARRS SR | DAVID | MICHAEL
MARTIN | JOHN | HOWARD
MARTIN | MARIANO |
MASEFIELD | RICHARD | C
MCBAIN | EMILY | ANN
MCDONALD | PAUL | FRANCIS
MCMASTER JR | RALPH | E
MEK | AUSTIN | REN FONG
METHVEN | CHARLOTTE | ELIZABETH
MIKESELL | RUSSELL | WALLACE
MIMMS | DAVID | DEWAYNE
MORAN | MICHAEL | D
MORIN | NADJA | DOMINIQUE
MORISSETTE | VALERE |
MOTWANI | SANJAY |
MPAMBARA | LYDIE |
MUELLER | VOLKER | G
NAGATA | SHIGERU |
NARAYAN | PANKAJ | VIKRAMAJIT
NARUSE | NORIYOSHI |
NAVEDA | LUCRECIA | BOTIN SANZ DE SAUTUOLA
NAYAR | SANJAY |
NICHOLS | MARK | EDWARD
NICHOLSON-LAILEY | MARY | CAMILLA
NOREKE | ERIK |
ODONNELL | JOHN | MICHAEL
OKAMURA | JUSTIN | YOSHIAKI
OKUN | ALEXANDER |
OON | JIN | TEIK
O'RORKE | NICHOLAS |
OSMOND | CHARLES | B
OSORIO | ALBERT |
OSULLIVAN | HERMY |
OUW | MINGTSE | CHEN
OVERBOSCH | PETER |
OVERBOSCH-FIERLIER | RENEE |
PAHISSON | REX | HENRIK
PAPPADAKIS | ANTHONY | NICHOLAS
PARKIN | RICHARD | J
PAULL | JAMES | EDWARD ANDREW
PAULSEN | JEAN-FREDERIC |
PETERSON | JANE | KATHRYN
PFAFFINGER | MARKUS | RICHARD OLIVER
PFANDER | MARGARET |
PHILIPP | HARALD |
PHILIPP | KATHLEEN | GLYNN
PIEDRA | ROBERTO |
PITTAS | PHILIP | M
PONS | JEAN | C
POPESCU | ANDREEA |
POPESCU | STELA |
POSTMA | ALEXANDER | J.
POWER | JOHN | K
POWER | PATRICK |
PRABHU | VENKATESH | RAMCHANDRA
PRICE | PRESCOTT | EDWIN
PROBIN | GEORGE | HENRY
QUADERER | RICHARD | JOHANN
RAGGENBASS-METAYER | MARY | LYNN
RAMSDEN | JANE | EUSTICE
RAO | SANJEEVANI |
RATNER | ROGER | MITCHELL
REINER | MARK | THEODORE
REUBEN JR | DAVID | ROBERT
RHODE | DAVID | ALAN OTTO
RHODE | LOUISE | EMILY
ROBERT | MATHILDE | BERENICE
ROBINSON | JOHN |
ROBINSON | KATHLEEN |
ROCKWELL | SCOTT | ZACHARY
ROSS | FRANCISCO | G
ROUX | ROMULO | A
ROZWADOWSKI | JEAN | F
SALVADE | NEVINE |
SAMUDA | JACQUELINE |
SARASIN | ALEXANDRA | MARIE RIVERS
SARASIN | CHRISTOPHE | ALAIN
SARGENT | STEVEN | A
SASAKI | KENICHI |
SCHIBLER | TAL |
SCHMID | DANIEL | MAX
SCHREIBER | MIRIAM |
SCHUBERT | ULLRICH |
SCHWEITZER | ROGER | WAYNE
SEAMAN | THOMAS | WYLIE
SEIDLER | CHRISTOPHER | FREDERICK
SETTERGREN | DAVID | MICHAEL
SHALOM | ISAAC | MAYER
SHAW | LOIS | COLIEN
SHEARING | PAUL | C
SHEIKH | BUSHRA | RAFIQUE
SIEWERT | PATRICK | THOMAS
SILVSTEDT | VICTORIA | K.
SIMS | CALVIN | JOHNSTON
SINGER | SUSAN | AMY
SINIK | JOHN | R
SKAAR | JOHAN | T
SLAUGHTER | CARLA | CHRISTINE MUNOZ
SOK | PATRICK | JONG-WOOK
SONG | CHI | HO
SONNAD | RAVISHANKAR | G
SPENDER | MARO | GORKY
SPRINGEL | SHARON | FERDON
STANTON-MEIJER | BERNADETTE |
STRIJBOS | MARC |
SUGANUMA | GRACE | HIROKO
SZE | MARIA |
TAGLIENTI | ALESSANDRO |
TAIMI | TOMOKO |
TECSON | EMILY |
TEONG | HANIONG |
TERJESEN | NILS | TRYGVE
THORKELSSON | SIGURBJORN |
THORPE | JULIE | F
THORPE | ROBERT | C
TOMPKINS | NATHAN | CAMBRIDGE
TONG | WAI | MAY
TOURANACHUN | VIROON |
TREVES | ALESSANDRO | GIULIANO
TREVES | ARIANE | MELANIO
TSE | THERESA | S.H.
TSENG | SEN | YANN
UCHIYAMA | KOJI | MARK
UM | LAWRENCE |
VACHON | JEAN-ROCH |
VAN CALOEN | LOUIS | DORSAN
VERBEEK | BERNARDUS | HENDRIK
VERBEEK | GERARDA | EVERARDA
VERME | MARIA |
VIRJI | AZAD |
VON KLEYDORFF | URSULA |
WAGNER | JASON | REED
WAIBEL | MARIETHERES | KARIN
WALDVOGEL | MURIEL |
WALKER | JOSEPH | M.
WANG | ANYING |
WANG | SU | CHIN-PI
WANG | XIUWEN |
WAWRA | IRENE | MAY
WEINER | JONATHON |
WEISELFISH | NIMROD |
WELSH | CHRISTIN | GUDRUN
WHITE | WILLIAM | CONRAD
WILKINSON | LESLIE |
WILLIAMS | JOHN | FRANCIS
WILLIAMS | MICHAEL | MCCORMICK
WILLIAMS | SANDRA | KELLY
WILLIAMS | CHRISTOPHER | K
WOLFF | JANET |
WONG | ALEXANDRA | LORRAINE KOK YUN
WONG | ALICIA | LUCIENNE KOK ON
WONG | KWOK | KWONG
WOO | JANET | MEI-PEI
WU | CHUNYUAN |
XU | KE |
YE | SHA |
YENNY | JACQUES | G.
YOON | JUNG | SUK
YOSHIDA | HITOSHI |
YU | ALLEN | B. H.
YUE | CHRISTINA | KUEN-NA KWOK
YUE | RUDY | YEE SHEUNG
ZEMEK | PATRICK | WILLIAM
GOGULSKI | MICHAEL | JUDE (expatriated 12/2008)

Dated: January 21, 2011.
Angie Kaminski,
Manager Team 103, Examinations Operations—Philadelphia Compliance Services.

[FR Doc. 2011-3178 Filed 2-10-11; 8:45 am]

BILLING CODE 4830-01-P